DEPARTMENT OF ENERGY

Federal Energy Regulatory Commission

Combined Notice of Filings #2

Take notice that the Commission received the following electric rate filings:

Docket Numbers: ER16-1021-001.

Applicants: Arizona Public Service Company.

Description: Compliance filing: Service Agreement Nos. 338 and 339 to be effective 2/10/2016.

Filed Date: 5/5/16.

Accession Number: 20160505-5190.

Comments Due: 5 p.m. ET 5/26/16.

Docket Numbers: ER16-1397-001.

Applicants: Southern California Edison Company.

Description: Tariff Amendment: Resubmit Two Amended DSA's w/SunEdison Utility Solutions, LLC to be effective 1/1/2016.

Filed Date: 5/5/16.

Accession Number: 20160505-5158.

Comments Due: 5 p.m. ET 5/26/16.

Docket Numbers: ER16-1454-001.

Applicants: Southern California Edison Company.

Description: Tariff Amendment: Resubmit Amended DSA w/SCE's Power Production Department to be effective 1/1/2016.

Filed Date: 5/5/16.

Accession Number: 20160505-5162.

Comments Due: 5 p.m. ET 5/26/16.

Docket Numbers: ER16-1625-000.

Applicants: AEP Texas Central Company.

Description: Section 205(d) Rate Filing: TCC-Rio Grande EC IA First Amended and Restated to be effective 4/13/2016.

Filed Date: 5/5/16.

Accession Number: 20160505-5141.

Comments Due: 5 p.m. ET 5/26/16.

Docket Numbers: ER16-1626-000.

Applicants: PJM Interconnection, L.L.C.

Description: Section 205(d) Rate Filing: Service Agreement Nos. 4451, Queue Position AA1-063A to be effective 4/5/2016.

Filed Date: 5/5/16.

Accession Number: 20160505-5171.

Comments Due: 5 p.m. ET 5/26/16.

Docket Numbers: ER16-1627-000.

Applicants: New York Independent System Operator, Inc.

Description: Section 205(d) Rate Filing: 205—Rules to Allocate Responsibility for the Cost of New Interconnection to be effective 7/5/2016.

Filed Date: 5/5/16.

Accession Number: 20160505-5189.

Comments Due: 5 p.m. ET 5/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2016.
Nathaniel J. Davis, Sr.,
Deputy Secretary.

[FR Doc. 2016-11111 Filed 5-10-16; 8:45 am]

BILLING CODE 6717-01-P